DEPARTMENT OF ENERGY

Federal Energy Regulatory Commission

[Docket Nos. CP05-130-000; CP05-132-000; Docket No. CP05-131-000]

Dominion Cove Point LNG, LP; Dominion Transmission, Inc.; Notice of Availability of the Final Conformity Determination for Maryland, Virginia, West Virginia and New York-Cove Point Expansion Project

August 18, 2006.

The staff of the Federal Energy Regulatory Commission (FERC or Commission) has prepared a Final General Conformity Determination to assess the potential air quality impacts associated with the construction and operation of a liquefied natural gas (LNG) import terminal and natural gas pipeline facilities proposed by Dominion Cove Point LNG, LP and Dominion Transmission, Incorporated (Dominion), referred to as the Cove Point Expansion Project, in the above-referenced dockets.

This Final General Conformity Determination was prepared to satisfy the requirements of the Clean Air Act.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659.

Magalie R. Salas,
Secretary.

[FR Doc. E6-14019 Filed 8-23-06; 8:45 am]

BILLING CODE 6717-01-P